DEPARTMENT OF AGRICULTURE

Animal and Plant Health Inspection Service

[Docket No. APHIS-2019-0083]

Availability of a Final Environmental Assessment and Finding of No Significant Impact for Cogongrass Control Efforts in Alabama, Georgia, Mississippi, and South Carolina

AGENCY: Animal and Plant Health Inspection Service, USDA.

ACTION: Notice.

SUMMARY: We are advising the public that we have prepared a final environmental assessment and finding of no significant impact relative to establishing an integrated management strategy to control cogongrass, a noxious weed, in Alabama, Georgia, Mississippi, and South Carolina. Based on our finding of no significant impact, we have determined that an environmental impact statement need not be prepared.

FOR FURTHER INFORMATION CONTACT: Ms. Anne LeBrun, APHIS, 4700 River Road, Unit 26, Riverdale, MD 20737; (301) 851-2259; email: anne.lebrun@usda.gov.

SUPPLEMENTARY INFORMATION: Cogongrass (Imperata cylindrica) is an invasive, exotic perennial grass that is naturalized throughout the southeastern United States. Cogongrass grows in both natural and disturbed areas, including around homes, on public properties, paved and unpaved roadways, forestland, stream banks, and farmland. It spreads rapidly, reducing forest productivity, harming wildlife habitat and native ecosystems, encroaching in pasture and hayfields, and impacting rights-of-way. It usually grows in warm or tropical areas and is widely distributed on all continents except Antarctica.

While it is unlikely that cogongrass can be eliminated from the southeastern United States, active control and eradication of cogongrass along the edge of the naturalized distribution area is possible through an integrated management strategy employing preventative, cultural, mechanical, biological, and chemical methods.

On March 2, 2020, we published in the Federal Register (85 FR 12250, Docket No. APHIS-2019-0083) a notice ¹ in which we announced the availability, for public review and comment, of a draft programmatic environmental assessment (EA) that examined the potential environmental impacts associated with establishing an integrated management strategy to control cogongrass, a noxious weed, in Alabama, Georgia, Mississippi, and South Carolina.

¹ To view the notice, supporting document, and the comments we received, go to http://www.regulations.gov/#!docketDetail;D=APHIS-2019-0083.

We solicited comments on the EA for 30 days ending April 1, 2020. We received 11 comments by that date. The comments addressed several topics of concern and were submitted by representatives of State forestry offices, forest landowner organizations, and the public. Comments and our responses to them are addressed in Appendix 1 of the final EA.

In this document, we are advising the public of our finding of no significant impact (FONSI) regarding the establishment of an integrated management strategy to control cogongrass. The finding, which is based on the final EA, reflects our determination that the methods used as part of the integrated management strategy will not have a significant impact on the quality of the human environment.

The final EA and FONSI may be viewed on the Regulations.gov website (see footnote 1). Copies of the final EA and FONSI are also available for public inspection at the U.S. Department of Agriculture (USDA), Room 1620, South Building, 14th Street and Independence Avenue SW, Washington, DC. Normal hours are between 8 a.m. and 4:30 p.m., Monday through Friday, except holidays. Persons wishing to inspect copies are requested to call ahead on (202) 799-7039 to facilitate entry into the reading room. In addition, copies may be obtained by calling or writing to the individual listed under FOR FURTHER INFORMATION CONTACT.

The final EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) the Animal and Plant Health Inspection Service's NEPA Implementing Procedures (7 CFR part 372).

Done in Washington, DC, this day of September 16, 2020.
Mark Davidson,
Acting Administrator, Animal and Plant Health Inspection Service.

[FR Doc. 2020-20946 Filed 9-22-20; 8:45 am]

BILLING CODE 3410-34-P